DEPARTMENT OF ENERGY

Federal Energy Regulatory Commission

[Docket No. CP01-183-000]

Southern Natural Gas Company; Notice of Application

May 10, 2001.

Take notice that on April 25, 2001, Southern Natural Gas Company (Southern) P.O. Box 2563, Birmingham, Alabama 35202-2563, filed an abbreviated application pursuant to Section 7(b) of the Natural Gas Act, as amended, and Section 157.7 and 157.14 of the Commission's regulations for approval of Southern's abandonment of capacity by sale to Cypress Natural Gas Company, L.L.C. (Cypress), all as more fully set forth in the application that is on file with the Commission and open for public inspection.

Southern proposes to abandon by sale to Cypress an undivided interest in two parallel 30-inch pipelines owned and operated by Southern equal to 310,000 Mcf per day of capacity from the tailgate of the liquefied natural gas facility of Southern LNG, Inc., on Elba Island in Chatham County, Georgia (LNG Facility) to an interconnection to be constructed with the pipeline facilities of Cypress at Cypress' meter station at Port Wentworth in Chatham County, Georgia (Pipelines). Southern states that this sale of capacity in the Pipeline is being proposed in conjunction with an overall project by Cypress to construct a pipeline system from the LNG Facility to Clay County, Florida, pursuant to an application Cypress filed concurrently with the Commission. Southern states that the capacity of the pipelines of approximately 1250 Mmcf/d greatly exceeds the maximum daily vaporization quantity of the LNG Facility. Southern further states that this demonstrates that even after the sale of 310 Mmcf/d of capacity to Cypress, Southern will still retain more than enough capacity in the Pipelines for Southern to take the entire deliverability from the LNG Facility that its downstream facilities are capable of accepting. Southern states it will continue to operate the Pipelines.

Any questions regarding the application should be directed to Patrick B. Pope, General Counsel, Southern Natural Gas Company, P.O. Box 2563, Birmingham, Alabama 35202-2563 at 205-325-7133.

There are two ways to become involved in the Commission's review of this project. First, any person wishing to obtain legal status by becoming a party to the proceedings, for this project should, on or before May 31, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See, 18 CFR 385.2001(a)(1)(iii) and the instructions on the Commission's web site at http://www.ferc.fed.us/efi/doorbell.htm.

If the Commission decides to set the application for a formal hearing before an Administrative Law Judge, the Commission will issue another notice describing that process. At the end of the Commission's review process, a final Commission order approving or denying a certificate will be issued.

David P. Boergers,
Secretary.

[FR Doc. 01-12287 Filed 5-15-01; 8:45 am]

BILLING CODE 6717-01-M